DEPARTMENT OF COMMERCE

International Trade Administration

[C-428-853, C-518-002, C-274-811]

Melamine From Germany, Qatar, and Trinidad and Tobago: Countervailing Duty Orders

AGENCY: Enforcement and Compliance, International Trade Administration, Department of Commerce.

SUMMARY: Based on affirmative final determinations by the U.S. Department of Commerce (Commerce) and the U.S. International Trade Commission (ITC), Commerce is issuing countervailing duty orders on melamine from Germany, Qatar, and Trinidad and Tobago.

DATES: Applicable January 31, 2025.

FOR FURTHER INFORMATION CONTACT: Bob Palmer at (202) 482-9068 or Laurel Smalley at (202) 482-3456 (Germany); Sofia Pedrelli at (202) 482-4310 (Qatar), and Colin Thrasher at (202) 482-3004 (Trinidad and Tobago), AD/CVD Operations, Offices VIII, II, and V, Enforcement and Compliance, International Trade Administration, U.S. Department of Commerce, 1401 Constitution Avenue NW, Washington, DC 20230.

SUPPLEMENTARY INFORMATION:

Background

In accordance with sections 705(d) and 777(i) of the Tariff Act of 1930, as amended (the Act) on December 9, 2024, Commerce published in the Federal Register its affirmative final determinations in the countervailing duty investigations of melamine from Germany, Qatar, and Trinidad and Tobago.¹ On January 23, 2025, the ITC notified Commerce of its final affirmative determinations, pursuant to sections 705(b)(1)(A)(i) and 705(d) of the Act, that an industry in the United States is materially injured by reason of subsidized imports of melamine from Germany and Qatar,² and that an industry in the United States is threatened with material injury by reason of subsidized imports from Trinidad and Tobago.³

¹ See Melamine from Germany: Final Affirmative Countervailing Duty Determination, 89 FR 97586 (December 9, 2024) (Germany Final Determination); Melamine from Qatar: Final Affirmative Countervailing Duty Determination and Final Negative Critical Circumstances Determination, 89 FR 97593 (December 9, 2024) (Qatar Final Determination); and Melamine from Trinidad and Tobago: Final Affirmative Determination in the Countervailing Duty Investigation, 89 FR 97599 (December 9, 2024) (Trinidad and Tobago Final Determination).

² See ITC's Letter, “Notification of ITC Final Determinations,” dated January 23, 2025 (ITC Notification Letter).

³ Having made a determination that an industry in the United States is threatened with material injury by reason of imports of melamine from Trinidad and Tobago, the ITC did not reach the issue of critical circumstances regarding subject imports from Trinidad and Tobago. See Melamine from Germany, Japan, Netherlands, Qatar, and Trinidad and Tobago, Investigation Nos. 701-TA-706, 708-709 and 731-TA-1667, 1669-1670, 1672 (Final), dated January 23, 2025 (ITC Final Report).

Scope of the Orders

The product covered by these orders is melamine from Germany, Qatar, and Trinidad and Tobago. For a complete description of the scope of these orders, see the appendix to this notice.

Countervailing Duty Orders

Based on the above-referenced affirmative final determinations by the ITC that an industry in the United States is materially injured by reason of subsidized imports of melamine from Germany and Qatar, and is threatened with material injury by reason of subsidized imports of melamine from Trinidad and Tobago,⁴ and in accordance with sections 705(c)(2) and 706 of the Act, Commerce is issuing these countervailing duty orders. Because the ITC determined that imports of melamine from Germany, Qatar, and Trinidad and Tobago are materially injuring, or threatening to material injure a U.S. industry, unliquidated entries of such merchandise from Germany, Qatar, and Trinidad and Tobago, entered or withdrawn from warehouse for consumption, are subject to the assessment of countervailing duties.

⁴ Id.

Therefore, in accordance with section 706(a) of the Act, Commerce will direct U.S. Customs and Border Protection (CBP) to assess, upon further instruction by Commerce, countervailing duties on unliquidated entries of melamine from Germany, Qatar, and Trinidad and Tobago. With the exception of entries occurring after the expiration of the provisional measures period and before the publication of the ITC's final affirmative injury determinations, as further described below, countervailing duties will be assessed on unliquidated entries of melamine from Germany and Qatar entered, or withdrawn from warehouse, for consumption on or after July 22, 2024, the date of publication of the Preliminary Determinations in the Federal Register.⁵

⁵ See Melamine from Germany: Preliminary Affirmative Countervailing Duty Determination, and Alignment of Final Determination With Final Antidumping Duty Determination, 89 FR 59053 (July 22, 2024); Melamine from Qatar: Preliminary Affirmative Countervailing Duty Determination, Preliminary Negative Determination of Critical Circumstances, and Alignment of Final Determination With Final Antidumping Duty Determination, 89 FR 59045 (July 22, 2024); and Melamine from Trinidad and Tobago: Preliminary Affirmative Countervailing Duty Determination, and Alignment of Final Determination With Final Antidumping Duty Determination, 89 FR 59057 (July 22, 2024) (collectively, Preliminary Determinations).

Pursuant to section 706(b)(2) of the Act, countervailing duties shall be assessed on subject merchandise entered, or withdrawn from warehouse, for consumption on or after the date of publication of the ITC's notice of final determination if that determination is based on the threat of material injury and is not accompanied by a finding that injury would have resulted without the imposition of suspension of liquidation of entries since Commerce's preliminary determination. Additionally, section 706(b)(2) of the Act requires CBP to refund any cash deposits or bonds of estimated countervailing duties posted since the preliminary countervailing duty determination if the ITC's final determination is threat-based.

Because the ITC's final determination for Trinidad and Tobago is based on the threat of material injury and is not accompanied by a finding that injury would have resulted but for the imposition of suspension of liquidation of entries since the Trinidad and Tobago Preliminary Determination, section 706(b)(2) of the Act is applicable.⁶ Therefore, Commerce will instruct CBP to assess duties on entries of melamine from Trinidad and Tobago entered, or withdrawn from warehouse, for consumption on or after the date of publication of the ITC's notice of final determination of threat of material injury in the Federal Register, in accordance with the subsidy rates listed in the rate chart below for Trinidad and Tobago.

⁶ See ITC Final Report at 1, footnote 4.

Suspension of Liquidation and Cash Deposits

In accordance with section 706 of the Act, Commerce will direct CBP to reinstitute the suspension of liquidation of melamine from Germany, Qatar, and Trinidad and Tobago, effective the date of publication of the ITC's notice of final determinations in the Federal Register, and to assess, upon further instruction by Commerce pursuant to section 706(a)(1) of the Act, countervailing duties for each entry of the subject merchandise in an amount based on the net countervailable subsidy rates for the subject merchandise. On or after the date of publication of the ITC's final injury determinations in the Federal Register, CBP must require, at the same time as importers would normally deposit estimated duties on this merchandise, a cash deposit equal to the rates noted below. These instructions suspending liquidation will remain in effect until further notice.

Estimated Countervailable Duty Subsidy Rates

The estimated countervailable duty subsidy rates are as follows; all-others rate applies to all producers or exporters not specifically listed below.

Country | Company | Subsidy rate (percent)
Germany | LAT Nitrogen Piesteritz GmbH | 29.72
| All Others | 29.72
Qatar | Qatar Melamine Company; Qatar Chemical and Petrochemical Marketing and Distribution Company (Muntajat) Q.P.J.S.C.; Qatar Fertiliser Company (P.S.C.); Industries Qatar Q.P.S.C.; QatarEnergy | 41.91
| All Others | 41.91
Trinidad and Tobago | Methanol Holdings (Trinidad) Ltd | 7.43
| All Others | 7.43

Provisional Measures

Section 703(d) of the Act states that the suspension of liquidation pursuant to an affirmative preliminary determination may not remain in effect for more than four months. In the underlying investigations, Commerce published the Preliminary Determinations on July 22, 2024.⁷ Therefore, entries of melamine from Germany, Qatar, and Trinidad and Tobago made on or after November 19, 2024, and prior to the date of publication of the ITC's final determinations in the Federal Register, are not subject to the assessment of countervailing duties due to Commerce's discontinuation of the suspension of liquidation.

⁷ See Preliminary Determinations.

In accordance with section 703(d) of the Act, Commerce instructed CBP to terminate the suspension of liquidation and to liquidate, without regard to countervailing duties, unliquidated entries of melamine from Germany, Qatar, and Trinidad and Tobago entered, or withdrawn from warehouse, for consumption on or after November 19, 2024, the date on which the provisional countervailing duty measures expired, through the day preceding the date of publication of the ITC final injury determinations in the Federal Register. Suspension of liquidation will resume on the date of publication of the ITC final injury determinations in the Federal Register.

Establishment of the Annual Inquiry Service Lists

On September 20, 2021, Commerce published the Final Rule in the Federal Register.⁸ On September 27, 2021, Commerce also published the Procedural Guidance in the Federal Register.⁹ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.

⁸ See Regulations to Improve Administration and Enforcement of Antidumping and Countervailing Duty Laws, 86 FR 52300 (September 20, 2021) (Final Rule).

⁹ See Scope Ruling Application; Annual Inquiry Service List; and Informational Sessions, 86 FR 53205 (September 27, 2021) (Procedural Guidance).

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ¹⁰

¹⁰ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,¹¹ the new annual inquiry service list will be in place until the following year, when the Opportunity Notice for the anniversary month of the order is published.

¹¹ See Procedural Guidance, 86 FR at 53206.

Commerce may update an annual inquiry service list at any time as needed based on interested parties' amendments to their entries of appearance to remove or otherwise modify their list of members and representatives, or to update contact information. Any changes or announcements pertaining to these procedures will be posted to the ACCESS website at https://access.trade.gov.

Special Instructions for Petitioner and Foreign Governments

In the Final Rule, Commerce stated that, “after an initial request and placement on the annual inquiry service list, both petitioner and foreign governments will automatically be placed on the annual inquiry service list in the years that follow.” ¹² Accordingly, as stated above, the petitioner and Governments of Germany, Qatar, and Trinidad and Tobago should submit their initial entries of appearance after publication of this notice in order to appear in the first annual inquiry service lists for these orders. Pursuant to 19 CFR 351.225(n)(3), the petitioner and the Governments of Germany, Qatar, and Trinidad and Tobago will not need to resubmit their entries of appearance each year to continue to be included on the annual inquiry service list. However, the petitioner and Governments of Germany, Qatar, and Trinidad and Tobago are responsible for making amendments to their entries of appearance during the annual update to the annual inquiry service list in accordance with the procedures described above.

¹² See Final Rule, 86 FR at 52335.

Notifications to Interested Parties

This notice constitutes the countervailing duty orders with respect to melamine from Germany, Qatar, and Trinidad and Tobago pursuant to section 706(a) of the Act. Interested parties can find a list of countervailing duty orders currently in effect at http://enforcement.trade.gov/stats/iastats1.html.

These orders are issued and published in accordance with section 706(a) of the Act and 19 CFR 351.211(b).

Dated: January 27, 2025.
Abdelali Elouaradia,
Acting Assistant Secretary for Enforcement and Compliance.

Appendix

Scope of the Orders

The merchandise subject to these orders is melamine (Chemical Abstracts Service (CAS) registry number 108-78-01, molecular formula C3 H6 N6). Melamine is also known as 2,4,6-triamino-s-triazine; 1,3,5-Triazine-2,4,6- triamine; Cyanurotriamide; Cyanurotriamine; Cyanuramide; and by various brand names. Melamine is a crystalline powder or granule. All melamine is covered by the scope of these orders irrespective of purity, particle size, or physical form. Melamine that has been blended with other products is included within this scope when such blends include constituent parts that have been intermingled, but that have not been chemically reacted with each other to produce a different product. For such blends, only the melamine component of the mixture is covered by the scope of these orders. Melamine that is otherwise subject to these orders is not excluded when commingled with melamine from sources not subject to these orders. Only the subject component of such commingled products is covered by the scope of these orders.

The subject merchandise is provided for in subheading 2933.61.0000 of the Harmonized Tariff Schedule of the United States (HTSUS). Although the HTSUS subheading and CAS registry number are provided for convenience and customs purposes, the written description of the scope is dispositive.

[FR Doc. 2025-02001 Filed 1-30-25; 8:45 am]

BILLING CODE 3510-DS-P